DEPARTMENT OF LABOR

Employment and Training Administration

[NAFTA-04106]

United States Leather, Lackawanna Leather, El Paso, Texas, Including Leased Workers of Temporary Alternatives, Inc. d/b/a Snelling Temporaries Employed at United States Leather, Lackawanna Leather, El Paso, Texas; Amended Certification Regarding Eligibility to Apply for NAFTA-Transitional Adjustment Assistance

In accordance with Section 250(A), Subchapter D, Chapter 2, title II, of the Trade Act of 1974 (19 U.S.C. 2273), the Department of Labor issued a Certification for NAFTA Transitional Adjustment Assistance on October 6, 2000, applicable to workers of United States Leather, Lackawanna Leather, El Paso, Texas. The notice was published in the Federal Register on November 1, 2000 (65 FR 65331).

At the request of the State agency, the Department reviewed the certification for workers of the subject firm. New information shows that the Department incorrectly identified the subject firm title name in its entirety.

The Department is amending the certification determination to correctly identify the subject firm title name to read “United States Leather, Lackawanna Leather, including leased workers of Temporary Alternatives, Inc. d/b/a Snelling Temporaries”.

The amended notice applicable to NAFTA-04106 is hereby issued as follows:

All workers of United States Leather, Lackawanna Leather, El Paso, Texas, including leased workers of Temporary Alternatives, Inc. d/b/a Snelling Temporaries, El Paso, Texas engaged in employment related to the production of leather hides used for the production of car seats at United States Leather, Lackawanna Leather, El Paso, Texas who became totally or partially separated from employment on or after August 14, 1999 through October 6, 2002 are eligible to apply for NAFTA-TAA under Section 250 of the Trade Act of 1974.

Signed at Washington, DC this 5th day of January, 2001.
Linda G. Poole,
Certifying Officer, Division of Trade Adjustment Assistance.

[FR Doc. 01-1902 Filed 1-22-01; 8:45 am]

BILLING CODE 4510-30-M